DEPARTMENT OF COMMERCE

Bureau of Industry and Security

15 CFR Parts 772 and 774

[Docket No. 100413184-0299-01]

RIN 0694-AE91

Wassenaar Arrangement 2009 Plenary Agreements Implementation: Categories 1, 2, 3, 4, 5 Part I, 6, 7, and 9 of the Commerce Control List, Definitions, Reports; Correction

AGENCY: Bureau of Industry and Security, Commerce.

ACTION: Correcting amendments.

SUMMARY: The Bureau of Industry and Security (BIS) published a final rule in the Federal Register on Tuesday, September 7, 2010 (75 FR 54271) that revised the Export Administration Regulations (EAR) by amending entries for certain items that are controlled for national security reasons in Categories 1, 2, 3, 4, 5 Part I (telecommunications), 6, 7, and 9; adding new entries to the Commerce Control List; revising reporting requirements; and adding and amending EAR Definitions. That final rule contained errors that affected Export Control Classification Numbers (ECCNs) 6A005, 6A008, and 9A001, as well as the definition of “energetic materials.” In addition, that final rule's preamble erroneously identified ECCN 6E993 as one of the ECCNs that was revised in the rule's text. This document corrects these errors.

DATES: Effective Date: This rule is effective: October 13, 2010.

FOR FURTHER INFORMATION CONTACT: For general questions contact Sharron Cook, Office of Exporter Services, Bureau of Industry and Security, U.S. Department of Commerce at (202) 482-2440 or by e-mail: scook@bis.doc.gov.

SUPPLEMENTARY INFORMATION:

Background

On September 7, 2010, the final rule, “Wassenaar Arrangement 2009 Plenary Agreements Implementation: Categories 1, 2, 3, 4, 5 Part I, 6, 7, and 9 of the Commerce Control List, Definitions, Reports” was published in the Federal Register (75 FR 54271). The preamble of the September 7th rule listed ECCN 6E993 as one of the ECCNs that was revised, but it was not, in fact, revised by the rule. Through publication of this rule, BIS is clarifying that ECCN 6E993 was not revised by the September 7th rule. The September 7th rule also added an incomplete definition for “energetic materials” in section 772.1. This rule corrects that error by adding the missing text to the definition.

In the Commerce Control List, the rule did not remove a note after 6A008.f that had been moved to the items paragraph of ECCN 6A008. This rule removes the note after 6A008.f. Also, the rule listed an incorrect citation of “6.A.5.d.1.d” instead of “6A005.d.1.d” in 6A005.d.1.e; this rule corrects this citation. The rule also included two incomplete citations in the introductory text of ECCN 9A001.a; this rule replaces the citations “.a or .h” with “9E003.a or 9E003.h”.

Rulemaking Requirements

1. This final rule has been determined to be not significant for purposes of Executive Order 12866.

2. Notwithstanding any other provision of law, no person is required to respond to, nor shall any person be subject to a penalty for failure to comply with a collection of information subject to the requirements of the Paperwork Reduction Act of 1995 (44 U.S.C. 3501 et seq.) (PRA), unless that collection of information displays a currently valid Office of Management and Budget (OMB) Control Number. This rule involves two collections of information subject to the PRA. One of the collections has been approved by OMB under control number 0694-0088, “Multi Purpose Application,” and carries a burden hour estimate of 58 minutes for a manual or electronic submission. The other of the collections has been approved by OMB under control number 0694-0106, “Reporting and Recordkeeping Requirements under the Wassenaar Arrangement,” and carries a burden hour estimate of 21 minutes for a manual or electronic submission. Send comments regarding these burden estimates or any other aspect of these collections of information, including suggestions for reducing the burden, to OMB Desk Officer, New Executive Office Building, Washington, DC 20503; and to Jasmeet Seehra, OMB Desk Officer, by e-mail at Jasmeet_K._Seehra@omb.eop.gov or by fax to (202) 395-7285; and to the Office of Administration, Bureau of Industry and Security, Department of Commerce, 14th and Pennsylvania Avenue, NW., Room 6622, Washington, DC 20230.

3. This rule does not contain policies with Federalism implications as that term is defined under Executive Order 13132.

4. The provisions of the Administrative Procedure Act (5 U.S.C. 553) requiring notice of proposed rulemaking, the opportunity for public participation, and a delay in effective date, are inapplicable because this regulation involves a military and foreign affairs function of the United States (5 U.S.C. 553(a)(1)). The changes contained in this rule are non-substantive technical corrections of a previously published rule that has already been exempted from notice and comment and delay in effective date provisions because the content of the September 7, 2010 rule involves a military and foreign affairs function of the United States (5 U.S.C. 553(a)(1)). The corrections contained in this final rule are essential to ensuring the accurate and complete implementation of the September 7th rule.

Further, no other law requires that a notice of proposed rulemaking and an opportunity for public comment be given for this final rule. Because a notice of proposed rulemaking and an opportunity for public comment are not required to be given for this rule under the Administrative Procedure Act or by any other law, the analytical requirements of the Regulatory Flexibility Act (5 U.S.C. 601 et seq.) are not applicable. Therefore, this regulation is issued in final form. Although there is no formal comment period, public comments on this regulation are welcome on a continuing basis. Comments should be submitted to Sharron Cook, Office of Exporter Services, Bureau of Industry and Security, Department of Commerce, 14th and Pennsylvania Ave., NW., Room 2705, Washington, DC 20230.

List of Subjects

15 CFR Part 772

Exports.

15 CFR Part 774

Exports, Reporting and recordkeeping requirements.

Accordingly, Parts 772 and 774 of the Export Administration Regulations (15 CFR Parts 730-774) are amended as follows:

PART 772—[AMENDED]

1. The authority citation for Part 772 continues to read as follows:

Authority: 50 U.S.C. app. 2401 et seq.; 50 U.S.C. 1701 et seq.; E.O. 13222, 66 FR 44025, 3 CFR, 2001 Comp., p. 783; Notice of August 12, 2010, 75 FR 50681 (August 16, 2010).

2. Section 772.1 is amended by adding the phrase “subclasses of energetic materials.” to the end of the definition for “Energetic materials.”

PART 774—[AMENDED]

3. The authority citation for Part 774 continues to read as follows:

Authority: 50 U.S.C. app. 2401 et seq.; 50 U.S.C. 1701 et seq.; 10 U.S.C. 7420; 10 U.S.C. 7430(e); 22 U.S.C. 287c, 22 U.S.C. 3201 et seq., 22 U.S.C. 6004; 30 U.S.C. 185(s), 185(u); 42 U.S.C. 2139a; 42 U.S.C. 6212; 43 U.S.C. 1354; 15 U.S.C. 1824a; 50 U.S.C. app. 5; 22 U.S.C. 7201 et seq.; 22 U.S.C. 7210; E.O. 13026, 61 FR 58767, 3 CFR, 1996 Comp., p. 228; E.O. 13222, 66 FR 44025, 3 CFR, 2001 Comp., p. 783; Notice of August 12, 2010, 75 FR 50681 (August 16, 2010).

4. In Supplement No. 1 to Part 774 (the Commerce Control List):

a. Category 6 Sensors, ECCN 6A005 is amended by removing the reference “6.A.5.d.1.d” and adding in its place “6A005.d.1.d” in paragraph d.1.e in the Items paragraph of the List of Items Controlled section.

b. Category 6—Sensors, ECCN 6A008 is amended by removing the Note from paragraph f in the Items paragraph of the List of Items Controlled section.

c. Category 9, Aerospace and Propulsion, ECCN 9A001 is amended by revising the introductory text of paragraph (a) in the Items paragraph of the List of Items Controlled section to read as follows:

Supplement No. 1 to Part 774—The Commerce Control List

* * * * *

9A001 Aero gas turbine engines having any of the following (see List of Items Controlled).

* * * * *

List of Items Controlled

* * * * *

Items:

a. Incorporating any of the technologies controlled by 9E003.a or 9E003.h; or

* * * * *

Bernard Kritzer,
Director, Office of Exporter Services.

[FR Doc. 2010-25554 Filed 10-12-10; 8:45 am]

BILLING CODE 3510-33-P